DEPARTMENT OF TRANSPORTATION

Federal Aviation Administration

14 CFR Part 71

[Docket No. FAA-2016-9555; Airspace Docket No. 16-AGL-2]

RIN 2120-AA66

Proposed Modification and Revocation of Multiple Air Traffic Service (ATS) Routes; Northcentral United States

AGENCY: Federal Aviation Administration (FAA), DOT.

ACTION: Notice of proposed rulemaking (NPRM).

SUMMARY: This action proposes to amend and remove multiple VHF Omnidirectional Range (VOR) Federal airways in northcentral United States to reflect and accommodate route changes being made as part of the FAA's Cleveland/Detroit Metroplex Project airspace redesign effort.

DATES: Comments must be received on or before April 13, 2017

ADDRESSES: Send comments on this proposal to the U.S. Department of Transportation, Docket Operations, 1200 New Jersey Avenue SE., West Building Ground Floor, Room W12-140, Washington, DC 20590; telephone: 1(800) 647-5527, or (202) 366-9826. You must identify FAA Docket No. FAA-2016-9555 and Airspace Docket No. 16-AGL-2 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9555 and Airspace Docket No. 16-AGL-2) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2016-9555 and Airspace Docket No. 16-AGL-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX, 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

The Cleveland Air Route Traffic Control Center (ARTCC), with the Cleveland and Detroit Terminal Radar Approach Control (TRACON) facilities, is currently undertaking the Cleveland/Detroit (CLE/DTW) Metroplex Project. This project is in support of the FAA's Next Generation (NextGen) goal to safely improve the overall efficiency of the NAS by increasing efficiencies in metropolitan areas with multiple airports and complex air traffic flows. More specifically, these proposed changes would enhance the way aircraft navigate the complex airspace, improve airport access, and make flight routes more efficient by optimizing the airspace and procedures based on satellite-based navigation.

At present, the enroute airway structure within the CLE/DTW metroplex project area is conventionally based with the Federal airways established using ground-based navigation aids, and most of the current procedures rely on the existing Federal airways. The CLE/DTW metroplex project is aimed at amending the current Federal airways to assist NAS users by providing more efficient satellite-based navigation options for routing and integrating 100 new area navigation (RNAV) procedures that are being designed.

Aircraft within the airspace area controlled by the Cleveland ARTCC often file direct to their final airport destinations, or are vectored direct to waypoints or VOR navigation aids further along their intended route of flight. Cleveland ARTCC and the Cleveland and Detroit TRACONs conducted an analysis of the Federal airways usage in Cleveland ARTCC's airspace. According to that analysis, 57 percent of the airways in Cleveland ARTCC's airspace were never filed or used, and the remaining 43 percent of the airways were filed or used less than 1 percent of the total monthly operations flown in the CLE/DTW metroplex project area.

While the FAA proposes to amend the current Federal airway structure in support of the CLE/DTW metroplex project, the proposal itself does not remove any existing VORs. Unless proposed in a separate airspace action, the VORs within the CLE/DTW metroplex project area would remain available for flight plan filing and navigation purposes. Additionally, as part of the CLE/DTW metroplex project, the FAA plans to amend the current fixes contained within the project area by converting them into RNAV waypoints that would remain in place to assist pilots and air traffic controllers already familiar with them, for navigation purposes.

Lastly, the FAA plans to continue NextGen modernization efforts of the Cleveland and Detroit TRACON assigned airspace areas, at a later date, by working with the TRACONs and establishing new RNAV T-routes designed to enhance the flow of traffic through their busy terminal airspace areas. The new RNAV T-routes would be proposed in a separate airspace action after the RNAV procedures being developed for the CLE/DTW metroplex project are published and available for use.

The Proposal

The FAA is proposing an amendment to Title 14, Code of Federal Regulations (14 CFR) part 71 to modify VOR Federal airways V-2, V-5, V-6, V-8, V-10, V-11, V-14, V-26, V-30, V-38, V-43, V-45, V-47, V-59, V-75, V-84, V-92, V-96, V-103, V-116, V-126, V-133, V-170, V-188, V-210, V-221, V-232, V-233, V-450, V-464, V-493, and V-542. Additionally, this action proposes to remove VOR Federal airways V-40, V-98, V-176, V-297, V-353, V-383, V-396, V-406, V-416, V-418, V-426, V-435, V-443, V-467, V-486, V-522, V-523, V-525, and V-584. The VOR Federal airway amendments and removals are proposed in support of the FAA's planned CLE/DTW metroplex project and are outlined below.

V-2: V-2 currently extends between the Seattle, WA, VORTAC and the Gardner, MA, VOR/DME, excluding the airspace within Canada. The FAA proposes to remove the airway segment between the Lansing, MI, VORTAC and the Buffalo, NY, VOR/DME. Additionally, this proposal would remove the exclusion statement for the airspace within Canada. The unaffected portions of the existing airway would remain unchanged.

V-5: V-5 currently extends between the Pecan, GA, VOR/DME and the London, ON, Canada, VOR/DME, excluding the airspace within Canada. The FAA proposes to remove the airway segment between the Appleton, OH, VORTAC and the London, ON, Canada, VOR/DME. Additionally, this proposal would remove the exclusion statement for the airspace within Canada. The unaffected portions of the existing airway would remain unchanged.

V-6: V-6 currently extends between the Oakland, CA, VORTAC and the DuPage, IL, VOR/DME; between the intersection of the Chicago Heights, IL, VORTAC 358° and Gipper, MI, VORTAC 271° radials (NILES fix) and the Waterville, OH, VOR/DME; and between the Dryer, OH, VOR/DME and the La Guardia, NY, VOR/DME; excluding the airspace within restricted areas R-4803, R-4813A, and R-4813B when active. The FAA proposes to remove the airway segment between the intersection of the Gipper, MI, VORTAC 092°(T)/092°(M) and Litchfield, MI, VOR/DME 196°(T)/201°(M) radials (MODEM fix) and the Waterville, OH, VOR/DME; and between the Dryer, OH, VOR/DME and the Clarion, PA, VOR/DME. Additionally, this proposal would remove the exclusion statement for the airspace within restricted areas R-4803, R-4813A, and R-4813B because they do not affect V-6. The unaffected portions of the existing airway would remain unchanged.

V-8: V-8 currently extends between the intersection of the Seal Beach, CA, VORTAC 266° and Ventura, CA, VOR/DME 144° radials (DOYLE fix) and the Washington, DC, VOR/DME. The FAA proposes to remove the airway segment between the Flag City, OH, VORTAC and the Briggs, OH, VOR/DME. The unaffected portions of the existing airway would remain unchanged.

V-10: V-10 currently extends between the Pueblo, CO, VORTAC and the intersection of the Bradford, IL, VORTAC 058° and Joliet, IL, VORTAC 287° radials (PLANO fix); and between the intersection of the Chicago Heights, IL, VORTAC 358° and Gipper, MI, VORTAC 271° radials (NILES fix) and the Lancaster, PA, VOR/DME; excluding the airspace within Canada. The FAA proposes to remove the airway segment between the Litchfield, MI, VOR/DME and the Youngstown, OH, VORTAC. Additionally, this proposal would remove the exclusion statement for the airspace within Canada. The unaffected portions of the existing airway would remain unchanged.

V-11: V-11 currently extends between the Brookley, AL, VORTAC and the intersection of the Fort Wayne, IN, VORTAC 038° and Carleton, MI, VORTAC 262° radials (CRUXX fix). The FAA proposes to remove the airway segment between the intersection of the Fort Wayne, IN, 038°(T)/038°(M) and Waterville, OH, VOR/DME 273°(T)/275°(M) radials (EDGEE fix) and the intersection of the Fort Wayne, IN, VORTAC 038° and Carleton, MI, VORTAC 262° radials (CRUXX fix). The unaffected portions of the existing airway would remain unchanged.

V-14: V-14 currently extends between the Chisum, NM, VORTAC and the Norwich, CT, VOR/DME. The FAA proposes to remove the airway segment between the Flag City, OH, VORTAC and the Dunkirk, NY, VORTAC. The unaffected portions of the existing airway would remain unchanged.

V-26: V-26 currently extends between the Blue Mesa, CO, VOR/DME and the Dryer, OH, VOR/DME, excluding the airspace within Canada. The FAA proposes to remove the airway segment between the Lansing, MI, VORTAC and the Dryer, OH, VOR/DME. Additionally, this proposal would remove the exclusion statement for the airspace within Canada. The unaffected portions of the existing airway would remain unchanged.

V-30: V-30 currently extends between the Badger, WI, VORTAC and the Waterville, OH, VOR/DME; and between the Dryer, OH, VOR/DME and the Solberg, NJ, VOR/DME. The FAA proposes to remove the airway segment between the Litchfield, MI, VOR/DME and the Waterville, OH, VOR/DME; and between the Dryer, OH, VOR/DME and the Clarion, PA, VOR/DME. The unaffected portions of the existing airway would remain unchanged.

V-38: V-38 currently extends between the Moline, IL, VORTAC and the Cape Charles, VA, VORTAC. The FAA proposes to remove the airway segment between the intersection of the Fort Wayne, IN, VORTAC 091°(T)/091°(M) and Rosewood, OH, VORTAC 334°(T)/339°(M) radials (WINES fix) and the Appleton, OH, VORTAC. The unaffected portions of the existing airway would remain unchanged.

V-40: V-40 currently extends between the Dryer, OH, VOR/DME and the intersection of the Briggs, OH, VOR/DME 077° and Youngstown, OH, VORTAC 177° radials (CUTTA fix). The FAA proposes to remove the airway in its entirety.

V-43: V-43 currently extends between the Appleton, OH, VORTAC and the Buffalo, NY, VOR/DME. The FAA proposes to remove the airway segment between the Appleton, OH, VORTAC and the Youngstown, OH, VORTAC. Additionally, this proposal would add an exclusion statement for the airspace within Canada. The unaffected portions of the existing airway would remain unchanged.

V-45: V-45 currently extends between the New Bern, NC, VOR/DME and the Sault Ste Marie, MI, VOR/DME, excluding the airspace within restricted areas R-5502A and R-5502B. The FAA proposes to remove the airway segment between the Appleton, OH, VORTAC and the Saginaw, MI, VOR/DME. Additionally, this proposal would remove the exclusion statement for the airspace within restricted areas R-5502A and R-5502B because they do not affect V-45. The unaffected portions of the existing airway would remain unchanged.

V-47: V-47 currently extends between the Pine Bluff, AR, VOR/DME and the Pocket City, IN, VORTAC; and between the Cincinnati, KY, VORTAC and the Waterville, OH, VOR/DME. The FAA proposes to remove the airway segment between the Flag City, OH, VORTAC and the Waterville, OH, VOR/DME. The unaffected portions of the existing airway would remain unchanged.

In addition, the V-47 description incorrectly lists the state location of the Cincinnati VORTAC as “Ohio” instead of “Kentucky.” This action would correct the route description to reflect the proper state.

V-59: V-59 currently extends between the Pulaski, VA, VORTAC and the Briggs, OH, VOR/DME. The FAA proposes to remove the airway segment between the Newcomerstown, OH, VOR/DME and the Briggs, OH, VOR/DME. The unaffected portions of the existing airway would remain unchanged.

V-75: V-75 currently extends between the Morgantown, WV, VORTAC and the intersection of the Dryer, OH, VOR/DME 325° and Waterville, OH, VOR/DME 062° radials (LLEEO fix), excluding the airspace within Canada. The FAA proposes to remove the airway segment between the Briggs, OH, VOR/DME and the intersection of the Dryer, OH, VOR/DME 325° and Waterville, OH, VOR/DME 062° radials (LLEEO fix). Additionally, this proposal would remove the exclusion statement for the airspace within Canada. The unaffected portions of the existing airway would remain unchanged.

V-84: V-84 currently extends between the Northbrook, IL, VOR/DME and the Flint, MI, VORTAC; and between the Buffalo, NY, VOR/DME and the Syracuse, NY, VORTAC. The FAA proposes to remove the airway segment between the Lansing, MI, VORTAC and the Flint, MI, VORTAC. The unaffected portions of the existing airway would remain unchanged.

V-92: V-92 currently extends between the intersection of the Chicago Heights, IL, VORTAC 358° and Chicago O'Hare, IL, VOR/DME 127° radials (BEBEE fix) and the Armel, VA, VOR/DME. The FAA proposes to remove the airway segment between the intersection of the Goshen, IN, VORTAC 092°(T)/092°(M) and Fort Wayne, IN, VORTAC 016°(T)/016°(M) radials (ILTON fix) and the Tiverton, OH, VOR/DME. The unaffected portions of the existing airway would remain unchanged.

V-96: V-96 currently extends between the Brickyard, IN, VORTAC and the Detroit, MI, VOR/DME. The FAA proposes to remove the airway segment between the intersection of the Fort Wayne, IN, VORTAC 071°(T)/071°(M) and Flag City, OH, VORTAC 289°(T)/291°(M) radials (TWERP fix) and the Detroit, MI, VOR/DME. The unaffected portions of the existing airway would remain unchanged.

V-98: V-98 currently extends between the Dayton, OH, VOR/DME and the intersection of the Carleton, MI, VORTAC 243° and Waterville, OH, VOR/DME 321° radials (MIZAR fix). The FAA proposes to remove the airway in its entirety.

V-103: V-103 currently extends between the Chesterfield, SC, VOR/DME and the Lansing, MI, VORTAC, excluding the airspace within Canada. The FAA proposes to remove the airway segment between the Akron, OH, VOR/DME and the Lansing, MI, VORTAC. Additionally, this proposal would remove the exclusion statement for the airspace within Canada. The unaffected portions of the existing airway would remain unchanged.

V-116: V-116 currently extends between the intersection of the Chicago O'Hare, IL, VOR/DME 092° and Chicago Heights, IL, VORTAC 013° radials (WILLA fix) and the Sparta, NJ, VORTAC, excluding the airspace within Canada. The FAA proposes to remove the airway segment between the intersection of the Chicago O'Hare, IL, VOR/DME 092° and Chicago Heights, IL, VORTAC 013° radials (WILLA fix) and the Erie, PA, VORTAC. Additionally, this proposal would remove the exclusion statement for the airspace within Canada. The unaffected portions of the existing airway would remain unchanged.

V-126: V-126 currently extends between the intersection of the Peotone, IL, VORTAC 053° and Knox, IN, VOR/DME 297° radials (BEARZ fix) and the Waterville, OH, VOR/DME; and between the Dryer, OH, VOR/DME and the Stonyfork, PA, VOR/DME. The FAA proposes to remove the airway segment between the intersection of the Goshen, IN, VORTAC 092°(T)/092°(M) and Fort Wayne, IN, VORTAC 016°(T)/016°(M) radials (ILTON fix) and the Waterville, OH, VOR/DME; and between the Dryer, OH, VOR/DME and the Erie, PA, VORTAC. The unaffected portions of the existing airway would remain unchanged.

V-133: V-133 currently extends between the intersection of the Charlotte, NC, VOR/DME 305° and Barretts Mountain, NC, VOR/DME 197° radials and the Mansfield, OH, VORTAC; and between the Salem, MI, VORTAC and the Red Lake, ON, Canada, VOR/DME; excluding the airspace within Canada. The FAA proposes to remove the airway segment between the Tiverton, OH, VOR/DME and the Mansfield, OH, VORTAC; and between the Salem, MI, VORTAC and the Saginaw, MI, VOR/DME. The unaffected portions of the existing airway and the exclusion statement for the airspace within Canada would remain unchanged.

V-170: V-170 currently extends between the Devils Lake, ND, VOR/DME and the Salem, MI, VORTAC; and between the Erie, PA, VORTAC and the intersection of the Andrews, MD, VORTAC 060° and Baltimore, MD, VORTAC 165° radials (POLLA fix); excluding the airspace within restricted area R-5802. The FAA proposes to remove the airway segment between the Erie, PA, VORTAC and the Bradford, PA, VOR/DME. The unaffected portions of the existing airway and the exclusion statement for restricted area R-5802 would remain unchanged.

V-176: V-176 currently extends between the Carleton, MI, VORTAC and the intersection of the Chardon, OH, VOR/DME 294° and Dryer, OH, VOR/DME 357° radials (HIMEZ fix), excluding the airspace within Canada. The FAA proposes to remove the airway in its entirety.

V-188: V-188 currently extends between the Carleton, MI, VORTAC and the Groton, CT, VOR/DME, excluding the airspace within Canada. The FAA proposes to remove the airway segment between the Carleton, MI, VORTAC and the Tidioute, PA, VORTAC. Additionally, this proposal would remove the exclusion statement for the airspace within Canada. The unaffected portions of the existing airway would remain unchanged.

V-210: V-210 currently extends between the Los Angeles, CA, VORTAC and the Okmulgee, OK, VOR/DME; and between the Brickyard, IN, VORTAC and theYardley, PA, VOR/DME. The FAA proposes to remove the airway segment between the Tiverton, OH, VOR/DME and the Revloc, PA, VOR/DME. The unaffected portions of the existing airway would remain unchanged.

V-221: V-221 currently extends between the Bible Grove, IL, VORTAC and the Erie, PA, VORTAC, excluding the airspace within Canada. The FAA proposes to remove the airway segment between the intersection of the Fort Wayne, IN, VORTAC 016°(T)/016°(M) and Goshen, IN, VORTAC 092°(T)/092°(M) radials (ILTON fix) and the Erie, PA, VORTAC. Additionally, this proposal would remove the exclusion statement for the airspace within Canada. The unaffected portions of the existing airway would remain unchanged.

V-232: V-232 currently extends between the Chardon, OH, VOR/DME and the Colts Neck, NJ, VOR/DME. The FAA proposes to remove the airway segment between the Chardon, OH, VOR/DME and the Keating, PA, VORTAC. The unaffected portions of the existing airway would remain unchanged.

V-233: V-233 currently extends between the Spinner, IL, VORTAC and the Pellston, MI, VORTAC. The FAA proposes to remove the airway segment between the Litchfield, MI, VOR/DME and the Mount Pleasant, MI, VOR/DME. The unaffected portions of the existing airway would remain unchanged.

V-297: V-297 currently extends between the Johnstown, PA, VORTAC and the intersection of the Akron, OH, VOR/DME 305° and Waterville, OH, VOR/DME 062° radials (LLEEO fix), excluding the airspace within Canada. The FAA proposes to remove the airway in its entirety.

V-353: V-353 currently extends between the Jackson, MI, VOR/DME and the Flint, MI, VORTAC. The FAA proposes to remove the airway in its entirety.

V-383: V-383 currently extends between the Rosewood, OH, VORTAC and the Detroit, MI, VOR/DME. The FAA proposes to remove the airway in its entirety.

V-396: V-396 currently extends between the Windsor, ON, Canada, VOR/DME and the Chardon, OH, VOR/DME, excluding the airspace within Canada. The FAA proposes to remove the airway in its entirety.

V-406: V-406 currently extends between the Salem, MI, VORTAC and the London, ON, Canada, VOR/DME, excluding the airspace within Canada. The FAA proposes to remove the airway in its entirety.

V-416: V-416 currently extends between the Rosewood, OH, VORTAC and the intersection of the Mansfield, OH, VORTAC 045° and Dryer, OH, VOR/DME 123° radials (JAKEE fix). The FAA proposes to remove the airway in its entirety.

V-418: V-418 currently extends between the Salem, MI, VORTAC and the Jamestown, NY, VOR/DME, excluding the airspace within Canada. The FAA proposes to remove the airway in its entirety.

V-426: V-426 currently extends between the Carleton, MI, VORTAC and the Dryer, OH, VOR/DME. The FAA proposes to remove the airway in its entirety.

V-435: V-435 currently extends between the Rosewood, OH, VORTAC and the Dryer, OH, VOR/DME. The FAA proposes to remove the airway in its entirety.

V-443: V-443 currently extends between the intersection of the Newcomerstown, OH, VOR/DME 099° and Bellaire, OH, VOR/DME 044° radials (WISKE fix) and the Aylmer, ON, Canada, VOR/DME, excluding the airspace within Canada. The FAA proposes to remove the airway in its entirety.

V-450: V-450 currently extends between the Escanaba, MI, VOR/DME and the London, ON, Canada, VOR/DME, excluding the airspace within Canada. The FAA proposes to remove the airway segment between the Flint, MI, VORTAC and the London, ON, Canada, VOR/DME. Additionally, this proposal would remove the exclusion statement for the airspace within Canada. The unaffected portions of the existing airway would remain unchanged.

V-464: V-464 currently extends between the Salem, MI, VORTAC and the Geneseo, NY, VOR/DME, excluding the airspace within Canada. The FAA proposes to remove the airway segment between the Salem, MI, VORTAC and the Aylmer, ON, Canada, VOR/DME. The unaffected portions of the existing airway and the exclusion statement for the airspace within Canada would remain unchanged.

V-467: V-467 currently extends between the Richmond, IN, VORTAC and the Detroit, MI, VOR/DME. The FAA proposes to remove the airway in its entirety.

V-486: V-486 currently extends between the intersection of the Akron, OH, VOR/DME 316° and Chardon, OH, VOR/DME 260° radials (LEBRN fix) and the Jamestown, NY, VOR/DME. The FAA proposes to remove the airway in its entirety.

V-493: V-493 currently extends between the Livingston, TN, VORTAC and the Carleton, MI, VORTAC; and between the Menominee, MI, VOR/DME and the Rhinelander, WI, VORTAC. The FAA proposes to remove the airway segment between the Appleton, OH, VORTAC and the Carleton, MI, VORTAC. The unaffected portions of the existing airway would remain unchanged.

V-522: V-522 currently extends between the Dryer, OH, VOR/DME and the Toronto, ON, Canada, VOR/DME, excluding the airspace within Canada. The FAA proposes to remove the airway in its entirety.

V-523: V-523 currently extends between the Appleton, OH, VORTAC and the Erie, PA, VORTAC. The FAA proposes to remove the airway in its entirety.

V-525: V-525 currently extends between the Appleton, OH, VORTAC and the Dryer, OH, VOR/DME. The FAA proposes to remove the airway in its entirety.

V-542: V-542 currently extends between the Rosewood, OH, VORTAC and the Lebanon, NH, VORTAC. The FAA proposes to remove the airway segment between the Rosewood, OH, VORTAC and the Tidioute, PA, VORTAC. The unaffected portions of the existing airway would remain unchanged.

V-584: V-584 currently extends between the Waterville, OH, VOR/DME and the Dryer, OH, VOR/DME. The FAA proposes to remove the airway in its entirety.

All radials in the route descriptions below that do not reflect True (T)/Magnetic (M) degree radial information are unchanged and stated in True degrees.

VOR Federal airways are published in paragraph 6010(a) of FAA Order 7400.11A, dated August 3, 2016, and effective September 15, 2016, which is incorporated by reference in 14 CFR 71.1. The VOR Federal airways listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles, 55 MSL, Dickinson, ND; 10 miles, 60 miles, 38 MSL, Bismarck, ND; 14 miles, 62 miles, 34 MSL, Jamestown, ND; Fargo, ND; Alexandria, MN; Gopher, MN; Nodine, MN; Lone Rock, WI; Madison, WI; Badger, WI; Muskegon, MI; to Lansing, MI. From Buffalo, NY, 259° radials; Buffalo; Rochester, NY; Syracuse, NY; Utica, NY; Albany, NY; INT Albany 084° and Gardner, MA, 284° radials; to Gardner.

* * * * *

V-5 [Amended]

From Pecan, GA; Vienna, GA; Dublin, GA; Athens, GA; INT Athens 340° and Electric City, SC, 274° radials; INT Electric City 274° and Choo Choo, GA, 127° radials; Choo Choo; Bowling Green, KY; New Hope, KY; Louisville, KY; Cincinnati, OH; to Appleton, OH.

V-6 [Amended]

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles 95 MSL, Cherokee, WY; 39 miles, 27 miles 95 MSL, Medicine Bow, WY; INT Medicine Bow 106° and Sidney, NE., 291° radials; Sidney; North Platte, NE; Grand Island, NE; Omaha, NE; Des Moines, IA; Iowa City, IA; Davenport, IA; INT Davenport 087° and DuPage, IL, 255° radials; to DuPage. From INT Chicago Heights, IL, 358° and Gipper, MI, 271° radials; Gipper; to INT Gipper 092°(T)/092°(M) and Litchfield, MI, 196°(T)/201°(M) radials. From Clarion, PA; Philipsburg, PA; Selinsgrove, PA; Allentown, PA; Solberg, NJ; INT Solberg 107° and Yardley, PA, 068° radials; INT Yardley 068° and La Guardia, NY, 213° radials; to La Guardia.

* * * * *

V-8 [Amended]

From INT Seal Beach, CA, 266° and Ventura, CA, 144° radials; Seal Beach; Paradise, CA; 35 miles, 7 miles wide (3 miles SE and 4 miles NW of centerline) Hector, CA; Goffs, CA; INT Goffs 033° and Morman Mesa, NV, 196° radials; Morman Mesa; Bryce Canyon, UT; Hanksville, UT; Grand Junction, CO; Rifle, CO; Kremmling, CO; Mile High, CO; Akron, CO; Hayes Center, NE; Grand Island, NE; Omaha, NE; Des Moines, IA; Iowa City, IA; Moline, IL; Joliet, IL; Chicago Heights, IL; Goshen, IN; to Flag City, OH. From Briggs, OH; Bellaire, OH; INT Bellaire 107° and Grantsville, MD, 285° radials; Grantsville; Martinsburg, WV; to Washington, DC. The portion outside the United States has no upper limit.

* * * * *

V-10 [Amended]

From Pueblo, CO; 18 miles, 48 miles, 60 MSL, Lamar, CO; Garden City, KS; Dodge City, KS; Hutchinson, KS; Emporia, KS; INT Emporia 063° and Napoleon, MO, 243° radials; Napoleon; Kirksville, MO; Burlington, IA; Bradford, IL; to INT Bradford 058° and Joliet, IL, 287° radials. From INT Chicago Heights, IL, 358° and Gipper, MI, 271° radials; Gipper; to Litchfield, MI. From Youngstown, OH; INT Youngstown 116° and Revloc, PA, 300° radials; Revloc; INT Revloc 107° and Lancaster, PA, 280° radials; to Lancaster.

V-11 [Amended]

From Brookley, AL; Greene County, MS; INT Greene County 315° and Magnolia, MS 133° radials; Magnolia; Sidon, MS; Holly Springs, MS; Dyersburg, TN; Cunningham, KY; Pocket City, IN; Brickyard, IN; Marion, IN; Fort Wayne, IN; to INT Fort Wayne 038°(T)/038°(M) and Waterville, OH, 273°(T)/275°(M) radials.

* * * * *

V-14 [Amended]

From Chisum, NM; Lubbock, TX; Childress, TX; Hobart, OK; Will Rogers, OK; INT Will Rogers 052° and Tulsa, OK 246° radials; Tulsa; Neosho, MO; Springfield, MO; Vichy, MO; INT Vichy 067° and St. Louis, MO, 225° radials; St. Louis; Vandalia, IL; Terre Haute, IN; Brickyard, IN; Muncie, IN; to Flag City, OH. From Dunkirk, NY; Buffalo, NY; Geneseo, NY; Georgetown, NY; INT Georgetown 093° and Albany, NY, 270° radials; Albany; INT Albany 084° and Gardner, MA, 284° radials; Gardner; to Norwich, CT.

* * * * *

V-26 [Amended]

From Blue Mesa, CO, via Montrose, CO; 13 miles, 112 MSL, 131 MSL; Grand Junction, CO; Meeker, CO; Cherokee, WY; Muddy Mountain, WY; 14 miles 12 AGL, 37 miles 75 MSL, 84 miles 90 MSL, 17 miles 12 AGL; Rapid City, SD; Philip, SD; Pierre, SD; Huron, SD; Redwood Falls, MN; Farmington, MN; Eau Claire, WI; Waussau, WI; Green Bay, WI; INT Green Bay 116° and White Cloud, MI 302° radials; White Cloud; Lansing, MI.

* * * * *

V-30 [Amended]

From Badger, WI; INT Badger 102° and Pullman, MI, 303° radials; Pullman; to Litchfield, MI. From Clarion, PA; Philipsburg, PA; Selinsgrove, PA; East Texas, PA; INT East Texas 095° and Solberg, NJ, 264° radials; to Solberg.

* * * * *

V-38 [Amended]

From Moline, IL; INT Moline 082° and Peotone, IL, 281° radials; Peotone; Fort Wayne, IN; to INT Fort Wayne 091°(T)/091°(M) and Rosewood, OH, 334°(T)/339°(M) radials. From Appleton, OH; Zanesville, OH; Parkersburg, WV; Elkins, WV; Gordonsville, VA; Richmond, VA; Harcum, VA; to Cape Charles, VA.

* * * * *

V-40 [Removed]

* * * * *

V-43 [Amended]

From Youngstown, OH; Erie, PA; INT Erie 042° and Buffalo, NY, 259° radials; to Buffalo. The airspace within Canada is excluded.

* * * * *

V-45 [Amended]

From New Bern, NC; Kinston, NC; Raleigh-Durham, NC; INT Raleigh-Durham 275° and Greensboro, NC, 105° radials; Greensboro; INT Greensboro 334° and Pulaski, VA, 147° radials; Pulaski; Bluefield, WV; Charleston, WV; Henderson, WV; to Appleton, OH. From Saginaw, MI; Alpena, MI; to Sault Ste Marie, MI.

* * * * *

V-47 [Amended]

From Pine Bluff, AR; Gilmore, AR; Dyersburg, TN; Cunningham, KY; to Pocket City, IN. From Cincinnati, KY; Rosewood, OH; to Flag City, OH.

* * * * *

V-59 [Amended]

From Pulaski, VA; Beckley, WV; Parkersburg, WV; to Newcomerstown, OH.

* * * * *

V-75 [Amended]

From Morgantown, WV; Bellaire, OH; to Briggs, OH.

* * * * *

V-84 [Amended]

From Northbrook, IL; Pullman, MI; to Lansing, MI. From Buffalo, NY; Geneseo, NY; INT Geneseo 091° and Syracuse, NY, 240° radials; to Syracuse.

* * * * *

V-92 [Amended]

From INT Chicago O'Hare, IL, 127° and Chicago Heights, IL, 358° radials; Chicago Heights; Goshen, IN; to INT Goshen 092°(T)/092°(M) and Fort Wayne, IN, 016°(T)/016°(M) radials. From Tiverton, OH; Newcomerstown, OH; Bellaire, OH; INT Bellaire 107° and Grantsville, MD, 285° radials; Grantsville; INT Grantsville 124° and Armel, VA, 292° radials; to Armel.

* * * * *

V-96 [Amended]

From Brickyard, IN; Kokomo, IN; Fort Wayne, IN; to INT Fort Wayne 071°(T)/071°(M) and Flag City, OH, 289°(T)/291°(M) radials.

* * * * *

V-98 [Removed]

* * * * *

V-103 [Amended]

From Chesterfield, SC; Greensboro, NC; Roanoke, VA; Elkins, WV; Clarksburg, WV; Bellaire, OH; INT Bellaire 327° and Akron, OH, 181° radials; to Akron.

* * * * *

V-116 [Amended]

From Erie, PA; Bradford, PA; Stonyfork, PA; INT Stonyfork 098° and Wilkes-Barre, PA, 310° radials; Wilkes-Barre; INT Wilkes-Barre 084° and Sparta, NJ, 300° radials; to Sparta.

* * * * *

V-126 [Amended]

From INT Peotone, IL, 053° and Knox, IN, 297° radials; INT Knox 297° and Goshen, IN, 270° radials; Goshen; to INT Goshen 092°(T)/092°(M) and Fort Wayne, IN, 016°(T)/016°(M) radials. From Erie, PA; Bradford, PA; to Stonyfork, PA.

* * * * *

V-133 [Amended]

From INT Charlotte, NC, 305° and Barretts Mountain, NC, 197° radials; Barretts Mountain; Charleston, WV; Zanesville, OH; to Tiverton, OH. From Saginaw, MI; Traverse City, MI; Escanaba, MI; Sawyer, MI; Houghton, MI; Thunder Bay, ON, Canada; International Falls, MN; to Red Lake, ON, Canada. The airspace within Canada is excluded.

* * * * *

V-170 [Amended]

From Devils Lake, ND; INT Devils Lake 187° and Jamestown, ND, 337° radials; Jamestown; Aberdeen, SD; Sioux Falls, SD; Worthington, MN; Fairmont, MN; Rochester, MN; Nodine, MN; Dells, WI; INT Dells 097° and Badger, WI, 304° radials; Badger; INT Badger 121° and Pullman, MI, 282° radials; Pullman; to Salem, MI. From Bradford, PA; Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-176 [Removed]

* * * * *

V-188 [Amended]

From Tidioute, PA; Slate Run, PA; Williamsport, PA; Wilkes-Barre, PA; INT Wilkes-Barre 084° and Sparta, NJ, 300° radials; Sparta; INT Sparta 082° and Carmel, NY, 243° radials; Carmel; INT Carmel 078° and Groton, CT, 276° radials; to Groton.

* * * * *

V-210 [Amended]

From Los Angeles, CA, INT Los Angeles 083° and Pomona, CA, 240° radials; Pomona; INT Daggett, CA, 229° and Hector, CA, 263° radials; Hector; Goffs, CA; 13 miles, 23 miles 71 MSL, 85 MSL, Peach Springs, AZ; Grand Canyon, AZ; Tuba City, AZ; 10 miles 90 MSL, 91 miles 105 MSL, Rattlesnake, NM; Alamosa, CO; INT Alamosa 074° and Lamar, CO, 250° radials; 40 miles, 51 miles, 65 MSL, Lamar; 13 miles, 79 miles, 55 MSL, Liberal, KS; INT Liberal 137° and Will Rogers, OK, 284° radials; Will Rogers; INT Will Rogers 113° and Okmulgee, OK, 238° radials; Okmulgee. From Brickyard, IN, Muncie, IN; Rosewood, OH; to Tiverton, OH. From Revloc, PA; INT Revloc 096° and Harrisburg, PA, 285° radials; Harrisburg; Lancaster, PA; INT Lancaster 095° and Yardley, PA, 255° radials; to Yardley.

* * * * *

V-221 [Amended]

From Bible Grove, IL; Hoosier, IN; Shelbyville, IN; Muncie, IN; Fort Wayne, IN; to INT Fort Wayne 016°(T)/016°(M) and Goshen, IN, 092°(T)/092°(M) radials.

* * * * *

V-232 [Amended]

From Keating, PA; Milton, PA; INT Milton 099° and Solberg, NJ, 299° radials; Solberg; INT Solberg 137° and Colts Neck, NJ, 263° radials; to Colts Neck.

V-233 [Amended]

From Spinner, IL; INT Spinner 061° and Roberts, IL, 233° radials; Roberts; Knox, IN; Goshen, IN; to Litchfield, MI. From Mount Pleasant, MI; INT Mount Pleasant 351° and Gaylord, MI, 207° radials; Gaylord; to Pellston, MI.

* * * * *

V-297 [Removed]

* * * * *

V-353 [Removed]

* * * * *

V-383 [Removed]

* * * * *

V-396 [Removed]

* * * * *

V-406 [Removed]

* * * * *

V-416 [Removed]

* * * * *

V-418 [Removed]

* * * * *

V-426 [Removed]

* * * * *

V-435 [Removed]

* * * * *

V-443 [Removed]

* * * * *

V-450 [Amended]

From Escanaba, MI; Menominee, MI; Green Bay, WI; Muskegon, MI; INT Muskegon 094° and Flint, MI, 280° radials; to Flint.

* * * * *

V-464 [Amended]

From Aylmer, ON, Canada; Dunkirk, NY; to Geneseo, NY. The airspace within Canada is excluded.

* * * * *

V-467 [Removed]

* * * * *

V-486 [Removed]

* * * * *

V-493 [Amended]

From Livingston, TN, Lexington, KY; York, KY; INT York 030° and Appleton, OH, 183° radials; to Appleton. From Menominee, MI; to Rhinelander, WI.

* * * * *

V-522 [Removed]

V-523 [Removed]

* * * * *

V-525 [Removed]

* * * * *

V-542 [Amended]

From Tidioute, PA; Bradford, PA; INT Bradford 078° and Elmira, NY, 252° radials; Elmira; Binghampton, NY; Rockdale, NY; Albany, NY; Cambridge, NY; INT Cambridge 063° and Lebanon, NH, 214° radials; to Lebanon.

* * * * *

V-584 [Removed]

Issued in Washington, DC, on February 13, 2017.
Leslie M. Swann,
Acting Manager, Airspace Policy Group.

[FR Doc. 2017-03515 Filed 2-24-17; 8:45 am]

BILLING CODE 4910-13-P